Memorandum of January 20, 2025

Promoting Beautiful Federal Civic Architecture

Memorandum for the Administrator of the General Services Administration

I hereby direct the Administrator of the General Services Administration, in consultation with the Assistant to the President for Domestic Policy and the heads of departments and agencies of the United States where necessary, to submit to me within 60 days recommendations to advance the policy that Federal public buildings should be visually identifiable as civic buildings and respect regional, traditional, and classical architectural heritage in order to uplift and beautify public spaces and ennoble the United States and our system of self-government. Such recommendations shall consider appropriate revisions to the Guiding Principles for Federal Architecture and procedures for incorporating community input into Federal building design selections.

If, before such recommendations are submitted, the Administrator of the General Services Administration proposes to approve a design for a new Federal public building that diverges from the policy set forth in this memorandum, the Administrator shall notify me, through the Assistant to the President for Domestic Policy, not less than 30 days before the General Services Administration could reject such design without incurring substantial expenditures. Such notification shall set forth the reasons the Administrator proposes to approve such design.

THE WHITE HOUSE,

Washington, January 20, 2025

[FR Doc. 2025-02037

Filed 1-29-25; 8:45 am]

Billing code 3395-F4-P